DEPARTMENT OF LABOR

Employment and Training Administration

Investigations Regarding Certifications of Eligibility To Apply for Workers Adjustment Assistance

Petitions have been filed with the Secretary of Labor under Section 221(a) of the Trade Ace of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 6, 2003.

Interested persons are invited to submit written comments regarding the subject matter of the investigations to the Director, Division of Trade Adjustment Assistance, at the address shown below, not later than March 6, 2003.

The petitions filed in this case are available for inspection at the Office of the Director, Division of Trade Adjustment Assistance, Employment and Training Administration, U.S. Department of Labor, Room C-5311, 200 Constitution Avenue, NW., Washington, DC 20210.

Signed at Washington, DC, this 24th day of January 2003.
Edward A. Tomchick,
Director, Division of Trade Adjustment Assistance.

Appendix
[Petitions Instituted Between 01/13/2003 and 01/17/2003]
TA-W | Subject firm (petitioners) | Location | Date of institution | Date of petition
50,542 | Wards Cove Packing Company (Comp) | Kodiak, AK | 01/13/2003 | 01/10/2003
50,543 | Prime Manufacturing Company (Comp) | Lynn, MA | 01/13/2003 | 01/13/2003
50,544 | Firestone Tube Company (USWA) | Russellville, AR | 01/13/2003 | 01/07/2003
50,545 | Weavexx, Inc. (Comp) | Wake Forest, NC | 01/13/2003 | 01/07/2003
50,546 | Emerson Tool Company (Comp) | Paris, TN | 01/13/2003 | 01/10/2003
50,547 | Byrd Motor Line, Inc. (Wkrs) | Lexington, NC | 01/13/2003 | 01/10/2003
50,548 | Gilster Mary Lee Corporation (AR) | Wilson, AR | 01/13/2003 | 01/10/2003
50,549 | Sweetheart Cup (Wkrs) | Conyers, GA | 01/14/2003 | 01/10/2003
50,550 | Maine Brand Manufacturing, Inc. (Comp) | Littleton, ME | 01/14/2003 | 01/09/2003
50,551 | Hayes Co., Inc. (The) (KS) | Valley Center, KS | 01/14/2003 | 01/13/2003
50,552 | TMD Friction, Inc. (Wkrs) | Dublin, VA | 01/14/2003 | 01/10/2003
50,553 | Goodyear Tire and Rubber Co. (USWA) | Union City, TN | 01/14/2003 | 01/09/2003
50,554 | Scotty's Fashions (UNITE) | Palmerton, PA | 01/14/2003 | 01/06/2003
50,555 | Jaurice, Inc. (UNITE) | Bangor, PA | 01/14/2003 | 01/06/2003
50,556 | Stora Enso North America (Comp) | Wisc. Rapids, WI | 01/14/2003 | 01/13/2003
50,557 | Crane Company (Wkrs) | Long Beach, CA | 01/14/2003 | 11/04/2002
50,558 | Olofsson, PCC (UAW) | Lansing, MI | 01/14/2003 | 01/09/2003
50,559 | Capitol Engineering (IAMAW) | Brookfield, WI | 01/15/2003 | 11/19/2002
50,560 | Crown Pacific and Express (OR) | Gilchrist, OR | 01/15/2003 | 01/14/2003
50,561 | Douglas Furniture of California, LLC (Comp) | Redondo Beach, CA | 01/15/2003 | 01/09/2003
50,562 | Hubbell Lighting, Inc. (IBEW) | Martin, TN | 01/15/2003 | 01/14/2003
50,563 | Plexus Corporation (Wkrs) | Neenah, WI | 01/15/2003 | 01/14/2003
50,564 | Dana Corporation (Comp) | Crenshaw, MS | 01/15/2003 | 01/09/2002
50,565 | ABM Janitorial Services (Comp) | Greenville, SC | 01/15/2003 | 12/09/2002
50,566 | Barrett Business Services, Inc. (USWIB) | Easton, MD | 01/15/2003 | 11/19/2002
50,567 | Firmenich, Inc. (Comp) | Patillas, PR | 01/15/2003 | 01/07/2003
50,568 | SMTC Mfg Corporation of North Carolina (Comp) | Charlotte, NC | 01/15/2003 | 01/15/2003
50,569 | Datex-Ohmeda, Inc. (CO) | Louisville, CO | 01/15/2003 | 01/14/2003
50,570 | All U Can Handle (Wkrs) | Pittsburgh, PA | 01/15/2003 | 01/10/2003
50,571 | Computer Sciences Corporation (Wkrs) | Falls Church, VA | 01/16/2003 | 01/02/2003
50,572 | Scott Mills (Comp) | Gastonia, NC | 01/16/2003 | 01/08/2003
50,573 | Friwo-EMC, Inc. (Wkrs) | Colorado Spring, CO | 01/16/2003 | 12/24/2002
50,574 | Snap On Diagnostic (Wkrs) | Elkhorn, WI | 01/16/2003 | 01/15/2003
50,575 | ITT Industries (Comp) | Rochester, NY | 01/16/2003 | 01/07/2003
50,576 | Great Northern Paper Co. (PACE) | E. Millinocket, ME | 01/16/2003 | 01/14/2003
50,577 | Trade Wind Apparel, Inc. (Comp) | Commerce, GA | 01/16/2003 | 01/06/2003
50,578 | Cleveland Chair (Wkrs) | Madisonville, TN | 01/16/2003 | 01/06/2003
50,579 | Thomson 60 Case, LLC (Comp) | Lancaster, PA | 01/16/2003 | 01/03/2003
50,580 | All Steel (USWA) | W. Hazleton, PA | 01/16/2003 | 01/16/2003
50,581 | Chapin Mfg., Inc. (Comp) | Botavia, NY | 01/16/2003 | 01/02/2003
50,582 | Wright Products/Truth Hardware (Wkrs) | Rice Lake, WI | 01/16/2003 | 01/15/2003
50,583 | Ingersoll—Rand (Wkrs) | Michigan City, IN | 01/16/2003 | 01/08/2003
50,584 | Lockheed Martin (Wkrs) | Tulsa, OK | 01/16/2003 | 01/06/2003
50,585 | Skillers—C and S Apparel, Inc. (Wkrs) | Butler, PA | 01/16/2003 | 12/10/2002
50,586 | F/V Renaissance (Comp) | Kodiak, AK | 01/16/2003 | 01/15/2003
50,587 | Moll Industries (Comp) | Davie, FL | 01/16/2003 | 11/22/2002
50,588 | Murray Engineering, Inc. (MI) | Flint, MI | 01/16/2003 | 01/15/2003
50,589 | VF Playwear (Wkrs) | Danville, VA | 01/16/2003 | 01/15/2003
50,590 | MSX International (MI) | Auburn Hills, MI | 01/16/2003 | 01/15/2003
50,591 | Minnotte Machining (IWA) | Fairmont, WV | 01/16/2003 | 01/13/2003
50,592 | Specialty Minerals, Inc. (MN) | Cloquet, MN | 01/16/2003 | 01/15/2003
50,593 | Exemplar Manufacturing Co. (Wkrs) | Ypsilanti, MI | 01/16/2003 | 01/09/2003
50,594 | Maxcess Technologies, Inc. (Comp) | Summerville, SC | 01/16/2003 | 01/16/2003
50,595 | Consolidated Freightways (IAM) | Richfield, OH | 01/17/2003 | 01/16/2003
50,596 | Reptron Manufacturing (MN) | Hibbing, MN | 01/17/2003 | 01/15/2003
50,597 | Harriet and Henderson Yarns (Wkrs) | Henderson, NC | 01/17/2003 | 01/16/2003
50,598 | Blandin Paper Company (MN) | Grand Rapids, MN | 01/17/2003 | 01/15/2003
50,599 | Pacifica Mountain Smith, LLC (Comp) | Golden, CO | 01/17/2003 | 01/10/2003
50,600 | Nautilus (Comp) | Sitka, AK | 01/17/2003 | 01/16/2003
50,601 | Valeo (Comp) | Ft. Worth, TX | 01/17/2003 | 01/16/2003
50,602 | Porcelain Products Company (USWA) | Macomb, IL | 01/17/2003 | 01/15/2003
50,603 | Matthew J. Pancratz (Comp) | Homes, AK | 01/17/2003 | 01/15/2003

[FR Doc. 03-4266 Filed 2-21-03; 8:45 am]

BILLING CODE 4510-30-M